DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Northwest Region Federal Fisheries Permits.

OMB Control Number: 0648-0203.

Form Number(s): NA.

Type of Request: Regular submission.

Number of Respondents: 341.

Average Hours per Response: Exempted Fishing Permit (EFP) proposal, 8 hours; EFP application, 20 minutes; EFP pre-season plan, 16 hours; EFP trip/delivery notifications, 2 minutes; EFP data reports, 43 minutes; EFP summary reports, 24 hours; Limited Entry Permit (LEP) renewal, 20 minutes; LEP transfer, 30 minutes; ownership interest forms for sablefish-endorsed LEP, 10 minutes.

Burden Hours: 1,996.

Needs and Uses: The National Oceanic and Atmospheric Administration (NOAA), National Marine Fisheries Service (NMFS) collects certain information to determine whether a respondent complies with regulations that pertain to the issuance, transfer, ownership interest or renewal of a Pacific Coast Groundfish limited entry permit or exempted fishing permit. Also, NMFS collects information from permit owners and vessel owners to assist NMFS with its enforcement responsibilities. Exempted fishing permit holders may be required to provide descriptions of planned fishing activities, periodic data reports, preseason plans, and summary reports. The respondents are mainly groundfish fishermen or fishing companies or partnerships. Other respondents include State fishery agencies, non-profit groups, or fishing associations who sponsor research carried out under exempted fishing permits. These requirements were developed by the Pacific Fishery Management Council (PFMC) under the authority of the Magnuson-Stevens Fishery Conservation and Management Act, U.S.C. 1801 et seq. (Magnuson-Stevens Act).

Affected Public: Business or other for-profit organizations.

Frequency: Annually and on occasion.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: September 11, 2009.
Gwellnar Banks,
Management Analyst, Office of the Chief Information Officer.

[FR Doc. E9-22353 Filed 9-16-09; 8:45 am]

BILLING CODE 3510-22-P